DEPARTMENT OF ENERGY

Federal Energy Regulatory Commission

Notice of Settlement Agreement and Soliciting Comments

August 8, 2000.

Take notice that the following settlement agreement has been filed with the Commission and is available for public inspection:

a. Type of application: Settlement on New License Application.

b. Project No: 137-002; Project Name: Mokelumne; Applicant: Pacific Gas and Electric.

c. Date Settlement Agreement Filed: July 28, 2000.

d. Location: On the North Fork Mokelumne and its tributaries, east of the city of Sacramento, California, in Alpine, Amador and Calaveras Counties. The project occupies federal lands managed by the Eldorado and Stanislaus National Forests and the Bureau of Land Management.

e. Filed Pursuant to: Federal Power Act, 16 USC 791(a)-825(r).

f. Applicant's Contact: David W. Moller, Pacific Gas and Electric Company, P.O. Box 770000, San Francisco, CA 94177-0001, (415) 973-4696.

g. FERC Contact: Jim Fargo (202) 219-2848, james.fargo@ferc.fed.us.

h. Deadline Dates: comments due: September 4, 2000 reply comments due: September 19, 2000.

i. All documents (original and eight copies) should be filed with: David P. Boergers, Secretary, Federal Energy Regulatory Commission, 888 First Street, NE, Washington, DC 20426.

The Commission's Rules of Practice and Procedure require all interveners filing documents with the Commission to serve a copy of that document on each person on the official service list for the project. Further, if an intervener files comments or documents with the Commission relating to the merits of an issue that may affect the responsibilities of a particular resource agency, they must also serve a copy of the document on that resource agency.

j. Settlement Agreement was filed with the Commission on July 28, 2000. The agreement is the final, executed Mokelumne Relicensing Settlement Agreement for Project No. 137. The purpose of the Settlement is to resolve among the signatory parties all streamflow issues for ecological purposes and river-based recreational use, as well as other resolved subjects. The Settlement will support the Forest Service in issuing its Final 4(e) Conditions and FERC in preparing its Final Environmental Assessment and issuing a new license for the project. Comments and reply comments on the Offer of Settlement are due on the dates listed above.

k. Copies of the offer of settlement are available for inspection and reproduction at the Commission's Public Reference Room, located at 888 First Street, NE, Room 2A, Washington, DC 20426, or by calling (202) 208-1371. This filing may be viewed on http://www.ferc.fed.us/online/rims.htm (call 202-208-2222 for assistance) or at the address listed in item f above.

David P. Boergers,
Secretary.

[FR Doc. 00-20486 Filed 8-11-00; 8:45 am]

BILLING CODE 6717-01-M